DEPARTMENT OF DEFENSE

Department of the Navy

[Docket ID USN-2009-0017]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on August 19, 2009 unless comments are received which result in a contrary determination.

ADDRESSES: Send comments to the Department of the Navy, PA/FOIA Policy Branch, Head of Naval Operations (DNS-36), 2000 Navy Pentagon, Washington, DC 20350-2000.

FOR FURTHER INFORMATION CONTACT: Ms. Miriam Brown-Lam (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 15, 2009.
Morgan E. Frazier,
Alternate OSD Federal Register Liaison Officer, Department of Defense.

N01533-2

System name:

Navy Junior Reserve Officer Training Corps (NJROTC) Payment Reimbursement System (May 4, 2007, 72 FR 25275).

Changes:

* * * * *

Authority for maintenance of the system:

Delete entry and replace with “10 U.S.C. 2031, Junior Reserve Officers' Training Corps, Reserve Officers' Training Corps Program for Secondary Educational Institutions; DoD Instruction 1205.13, Junior Reserve Officers' Training Corps (JROTC) Program; DoDFMR Volume 10, Chapter 21; OPNAVINST 1533.5A, Naval Junior Reserve Officers Training Corps (NJROTC); and E.O. 9397 (SSN).”

* * * * *

Safeguards:

Delete entry and replace with “As a minimum, records are accessed by person(s) responsible for servicing, and authorized to use, the record system in performance of their official duties and properly screened and cleared for the need-to-know. Additionally, records are stored in locked file cabinets.

Access to the building is controlled through utilization of a swipe card. All guests are escorted. Access to electronic documents is limited by an officially issued Common Access Card (CAC) that is password protected.”

Retention and disposal:

Delete entry and replace with “Paper records and electronic storage media are maintained for a period of up to 6 years and 3 months from the fiscal year in which they were created, after which they are destroyed at the system location. If storage space is unavailable for this period of time, they may be sent to the Regional Records Service Facilities for the retention period. Destruction is by tearing, shredding, pulping, macerating, or burning.”

* * * * *

Notification procedure:

Delete entry and replace with “Individuals seeking to determine whether information about themselves is contained in this system of records should address written inquiries to the Naval Service Training Command, Citizenship Development (NJROTC), 250 Dallas Street, Suite A, Pensacola, FL 32526-5268.

Requests should contain individual's full name, Social Security Number (SSN) and the name of school. If the individual is no longer an NJROTC instructor, please provide dates of service as an instructor.

The request must be signed, include current address and telephone number.”

Record access procedures:

Delete entry and replace with “Individuals seeking access to information about themselves contained in this system of records should address written inquiries to the Naval Service Training Command, Citizenship Development (NJROTC), 250 Dallas Street Suite A, Pensacola FL 32508-5268.

Requests should contain individual's full name, Social Security Number (SSN) and if currently an NJROTC instructor, name of school. If no longer an NJROTC instructor, provide dates of service as an instructor.

The request must be signed, include current address and telephone number. The system manager may require an original signature or a notarized signature as a means of proving the identity of the individual requesting access to the records.”

Contesting record procedures:

Delete entry and replace with “The Navy's rules for accessing records and contesting contents and appealing initial agency determinations are published in Secretary of the Navy Instruction 5211.5 and 32 CFR part 701. They may also be obtained from the system manager.”

* * * * *

N01533-2

System name:

Navy Junior Reserve Officer Training Corps (NJROTC) Payment Reimbursement System.

System location:

NSTC/NJROTC Program (CD211), 250 Dallas Street, Suite A, Pensacola, FL 32508-5268.

Categories of individuals covered by the system:

All military retirees who participate in the NJROTC Instructor Program at selected high schools within the continental United States and various overseas locations.

Categories of records in the system:

Name, Social Security Number (SSN), school/school district name and address, applicable active duty entitlement amounts, and current gross retired pay amounts. Navy's applicable contribution percentage, gross and net contribution percentage, gross and net contribution amounts, and current employment period beginning and closing dates.

Authority for maintenance of the system:

10 U.S.C. 2031, Junior Reserve Officers' Training Corps, Reserve Officers' Training Corps Program for Secondary Educational Institutions; DoD Instruction 1205.13, Junior Reserve Officers' Training Corps (JROTC) Program; DoDFMR Volume 10, Chapter 21; OPNAVINST 1533.5A, Naval Junior Reserve Officers Training Corps (NJROTC); and E.O. 9397 (SSN).

Purpose(s):

To accomplish payroll computations and the reimbursement portion of the NJROTC Instructor Program; to provide statements and/or reports to each instructor and school/school district; to answer inquiries from instructors, school districts or financial institutions where funds are distributed; to provide information required by an auditor during an audit of the program; and to assist the Department of the Navy with any audit of individual instructor, school/school district.

Routine uses of records maintained in the system, including categories of users and the purpose of such uses:

In addition to those disclosures generally permitted under 5 U.S.C. 552a(b) of the Privacy Act of 1974, these records contained therein may specifically be disclosed outside the DoD as a routine use pursuant to 5 U.S.C. 552a(b)(3) as follows:

To the school/school district to provide information regarding the instructor's computed minimum instructor pay, and the amount being reimbursed by the Navy.

To the Treasury Department to provide information on check issues and electronic funds transfers.

To the Federal Reserve Banks to distribute payments made through the direct deposit system to financial organizations or their processing agents authorized by individuals to receive and deposit payments in their accounts.

The DoD “Blanket Routine Uses” published at the beginning of the Navy's compilation of systems of records notices also apply to this system.

Policies and practices for storing, retrieving, accessing, retaining, and disposition of records in the system:

Storage:

Paper records in file folders and electronic storage media.

Retrievability:

Information is retrieved by Instructor Name, Instructor Social Security Number (SSN), School Identification Code, School Name, District Identification Code, District Name, Retired Pay Grade, or by any combination of data elements within the database.

Safeguards:

As a minimum, records are accessed by person(s) responsible for servicing, and authorized to use, the record system in performance of their official duties and properly screened and cleared for the need-to-know. Additionally, records are stored in locked file cabinets.

Access to the building is controlled through utilization of a swipe card. All guests are escorted. Access to electronic documents is limited by an officially issued Common Access Card (CAC) that is password protected.

Retention and disposal:

Paper records and electronic storage media are maintained for a period of up to 6 years and 3 months from the fiscal year in which they were created, after which they are destroyed at the system location. If storage space is unavailable for this period of time, they may be sent to the Regional Records Service Facilities for the retention period. Destruction is by tearing, shredding, pulping, macerating, or burning.

System manager(s) and address:

Naval Service Training Command, Citizenship Development, 250 Dallas Street, Suite A, Pensacola, FL 32526.

Notification procedure:

Individuals seeking to determine whether information about themselves is contained in this system of records should address written inquiries to the Naval Service Training Command, Citizenship Development (NJROTC), 250 Dallas Street, Suite A, Pensacola, FL 32526-5268.

Requests should contain individual's full name, Social Security Number (SSN) and the name of school. If the individual is no longer an NJROTC instructor, please provide dates of service as an instructor.

The request must be signed, include current address and telephone number.

Record access procedures:

Individuals seeking access to information about themselves contained in this system of records should address written inquiries to the Naval Service Training Command, Citizenship Development (NJROTC), 250 Dallas Street Suite A, Pensacola FL 32508-5268.

Requests should contain individual's full name, Social Security Number (SSN) and if currently an NJROTC instructor, name of school. If no longer an NJROTC instructor, provide dates of service as an instructor.

The request must be signed, include current address and telephone number. The system manager may require an original signature or a notarized signature as a means of proving the identity of the individual requesting access to the records.

Contesting record procedures:

The Navy's rules for accessing records and contesting contents and appealing initial agency determinations are published in Secretary of the Navy Instruction 5211.5 and 32 CFR part 701. They may also be obtained from the system manager.

Record source categories:

Individual instructors; school/school district offices; Department of the Navy and the Defense Retiree and Annuitant System.

Exemptions claimed for the system:

None.

[FR Doc. E9-17153 Filed 7-17-09; 8:45 am]

BILLING CODE 5001-06-P